DEPARTMENT OF COMMERCE

International Trade Administration

[A-570-890]

Wooden Bedroom Furniture From the People's Republic of China: Preliminary Results of Antidumping Duty Administrative Review; 2014

AGENCY: Enforcement and Compliance, International Trade Administration, Department of Commerce.

SUMMARY: The Department of Commerce (“the Department”) is conducting the tenth administrative review (“AR”) of the antidumping duty order on wooden bedroom furniture (“WBF”) from the People's Republic of China (“PRC”). The period of review (“POR”) is January 1, 2014, through December 31, 2014. We invite interested parties to comment on these preliminary results.

DATES: Effective Date: December 14, 2015.

FOR FURTHER INFORMATION CONTACT: Patrick O'Connor or Jeffrey Pedersen, AD/CVD Operations, Office IV, Enforcement and Compliance, International Trade Administration, Department of Commerce, 1401 Constitution Avenue NW., Washington, DC 20230; telephone: (202) 482-0989, and (202) 482-2769, respectively.

SUPPLEMENTARY INFORMATION:

Scope of the Order

The product covered by the order is wooden bedroom furniture, subject to certain exceptions.¹ Imports of subject merchandise are classified under the Harmonized Tariff Schedule of the United States (“HTSUS”) subheadings: 9403.50.9042, 9403.50.9045, 9403.50.9080, 9403.50.9042, 9403.50.9045, 9403.60.8081, 7009.92.1000 or 7009.92.5000. Although the HTSUS subheadings are provided for convenience and customs purposes, the written product description in the Order remains dispositive.²

¹ See Notice of Amended Final Determination of Sales at Less Than Fair Value and Antidumping Duty Order: Wooden Bedroom Furniture From the People's Republic of China, 70 FR 329 (January 4, 2005) (“Order”).

² For a complete description of the Scope of the Order, please see “Decision Memorandum for Preliminary Results of Antidumping Duty Administrative Review: Wooden Bedroom Furniture from the People's Republic of China,” from Gary Taverman, Associate Deputy Assistant Secretary for Antidumping and Countervailing Duty Operations, to Christian Marsh, Deputy Assistant Secretary for Antidumping and Countervailing Duty Operations (“Preliminary Decision Memorandum”), dated concurrently with this notice.

Methodology

The Department is conducting this review in accordance with section 751(a)(1)(B) of the Tariff Act of 1930, as amended (“the Act”) and 19 CFR 351.213. For a full description of the methodology underlying our conclusions, see the Preliminary Decision Memorandum, which is hereby adopted with this notice. A list of topics discussed in the Preliminary Decision Memorandum is provided as Appendix I to this notice. The Preliminary Decision Memorandum is a public document and is on file electronically via Enforcement and Compliance's Antidumping and Countervailing Duty Centralized Electronic Service System (“ACCESS”). ACCESS is available to registered users at http://access.trade.gov and in the Central Records Unit, Room B8024 of the main Department of Commerce building. In addition, a complete version of the Preliminary Decision Memorandum can be accessed directly at http://enforcement.trade.gov/frn/. The signed Preliminary Decision Memorandum and the electronic versions of the Preliminary Decision Memorandum are identical in content.

PRC-Wide Entity

The Department selected Shanghai Jian Pu Import & Export Co., Ltd. (“Jian Pu”) as the sole mandatory respondent.³ The Department preliminarily determines that Jian Pu did not establish its eligibility for a separate rate for the reasons explained in the Preliminary Decision Memorandum. Accordingly, we are preliminarily treating Jian Pu as part of the PRC-wide entity.

³ See Preliminary Decision Memorandum.

In addition, six other companies for which a review was requested failed to provide separate rate applications or certifications necessary to establish their eligibility for a separate rate.⁴ The Department preliminarily determines that these seven companies, including Shanghai Jian Pu, are part of the PRC-wide entity. The PRC-wide entity rate is 216.01 percent. For additional information regarding this determination, see the Preliminary Decision Memorandum.

⁴ Those six companies, other than Shanghai Jian Pu, not establishing their eligibility for a separate rate are: (1) Baigou Crafts Factory of Fengkai; (2) Dongguan Hung Sheng Artware Products Co., Ltd., Coronal Enterprise Co., Ltd.; (3) Hualing Furniture (China) Co., Ltd., Tony House Manufacture (China) Co., Ltd., Buysell Investments Ltd., Tony House Industries Co., Ltd.; (4) Orient International Holding Shanghai Foreign Trade Co., Ltd.; (5) Prime Wood International Co., Ltd, Prime Best International Co., Ltd., Prime Best Factory, Liang Huang (Jiaxing) Enterprise Co., Ltd.; and (6) Woodworth Wooden Industries (Dong Guan) Co., Ltd. Although Woodworth Wooden Industries (Dong Guan) Co., Ltd. claimed to have no shipments of subject merchandise during the POR, the Department found evidence that contradicted this claim. See Memorandum from Patrick O'Connor, International Trade Compliance Analyst, Office IV, to Abdelali Elouaradia Director, Office IV, AD/CVD Operations, regarding the “Antidumping Duty Administrative Review of Wooden Bedroom Furniture from the People's Republic of China: Analysis of No Exports, Sales, or Entries by Certain Companies,” dated concurrently with this memorandum.

Preliminary Determination of No Shipments

Based on an analysis of U.S. Customs and Border Protection (“CBP”) information, and comments provided by a number of companies, the Department preliminarily determines that 11 of the companies for which an AR was requested and that claimed no shipments during this POR did not have any reviewable transactions during the POR.⁵ For additional information regarding this determination, see the Preliminary Decision Memorandum.⁶ Consistent with an announced refinement to its assessment practice in NME cases, the Department is not rescinding this AR, in part, but intends to complete the review with respect to the companies for which it has preliminarily found no shipments and issue appropriate instructions to CBP based on the final results of the review.⁷

⁵ Those 11 companies with no shipments during the POR are: (1) Clearwise Co., Ltd.; (2) Dongguan Chengcheng Furniture Co., Ltd.; (3) Dongguan Singways Furniture Co., Ltd.; (4) Eurosa (Kunshan) Co., Ltd., Eurosa Furniture Co., (Pte) Ltd.; (5) Golden Well International (HK) Ltd.; (6) Hangzhou Cadman Trading Co., Ltd.; (7) Rizhao Sanmu Woodworking Co., Ltd.; (8) Shenyang Shining Dongxing Furniture Co., Ltd.; (9) Wuxi Yushea Furniture Co., Ltd.; (10) Yeh Brothers World Trade Inc.; and (11) Zhejiang Tianyi Scientific & Educational Equipment Co., Ltd.

⁶ See Memorandum from Patrick O'Connor, International Trade Compliance Analyst, Office IV, to Abdelali Elouaradia Director, Office IV, AD/CVD Operations, regarding the “Antidumping Duty Administrative Review of Wooden Bedroom Furniture from the People's Republic of China: Analysis of No Exports, Sales, or Entries by Certain Companies,” dated concurrently with this notice.

⁷ See Non-Market Economy Antidumping Proceedings: Assessment of Antidumping Duties, 76 FR 65694, 65694-95 (October 24, 2011) and the “Assessment Rates” section, below.

Public Comment

Interested parties are invited to comment on the preliminary results and may submit case briefs and/or written comments, filed electronically using ACCESS, within 30 days of the date of publication of this notice, pursuant to 19 CFR 351.309(c)(1)(ii). Rebuttal briefs, limited to issues raised in the case briefs, will be due five days after the due date for case briefs, pursuant to 19 CFR 351.309(d). Parties who submit case or rebuttal briefs in this review are requested to submit with each argument a statement of the issue, a summary of the argument not to exceed five pages, and a table of statutes, regulations, and cases cited, in accordance with 19 CFR 351.309(c)(2).

Any interested party may request a hearing within 30 days of publication of this notice.⁸ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.⁹

⁸ See 19 CFR 351.310(c).

⁹ See 19 CFR 351.310(d).

The Department will issue the final results of this AR, which will include the results of its analysis of issues raised in any briefs received, within 120 days of publication of these preliminary results, pursuant to section 751(a)(3)(A) of the Act.

Assessment Rates

Upon issuing the final results of these reviews, the Department will determine, and CBP shall assess, antidumping duties on all appropriate entries covered by this review.¹⁰ The Department intends to issue assessment instructions to CBP 15 days after the publication date of the final results of this review.

¹⁰ See 19 CFR 351.212(b).

For each individually examined respondent in this review whose weighted-average dumping margin is above de minimis (i.e., 0.5 percent) in the final results of this review, the Department will calculate importer-specific assessment rates on the basis of the ratio of the total amount of dumping calculated for the importer's examined sales to the total entered value of those sales, in accordance with 19 CFR 351.212(b)(1).¹¹ Where an importer- (or customer-) specific ad valorem rate is greater than de minimis, the Department will instruct CBP to collect the appropriate duties at the time of liquidation.¹² Where either a respondent's weighted average dumping margin is zero or de minimis, or an importer- (or customer-) specific ad valorem dumping margin is zero or de minimis, the Department will instruct CBP to liquidate appropriate entries without regard to antidumping duties.¹³ We intend to instruct CBP to liquidate entries of subject merchandise exported by the PRC-wide entity at the PRC-wide rate.

¹¹ In these preliminary results, the Department applied the assessment rate calculation method adopted in Antidumping Proceedings: Calculation of the Weighted-Average Dumping Margin and Assessment Rate in Certain Antidumping Proceedings: Final Modification, 77 FR 8101 (February 14, 2012).

¹² See 19 CFR 351.212(b)(1).

¹³ See 19 CFR 351.212(b)(1).

The Department announced a refinement to its assessment practice in NME cases. Pursuant to this refinement in practice, for entries that were not reported in the U.S. sales database submitted by companies individually examined during the AR, the Department will instruct CBP to liquidate such entries at the PRC-wide rate. Additionally, if the Department determines that an exporter had no shipments of subject merchandise, any suspended entries that entered under that exporter's case number (i.e., at that exporter's rate) will be liquidated at the PRC-wide rate.¹⁴

¹⁴ For a full discussion of this practice, see Non-Market Economy Antidumping Proceedings: Assessment of Antidumping Duties, 76 FR 65694 (October 24, 2011).

Cash Deposit Requirements

The following cash deposit requirements will be effective upon publication of the final results of these reviews for shipments of the subject merchandise from the PRC entered, or withdrawn from warehouse, for consumption on or after the publication date, as provided by section 751(a)(2)(C) of the Act: (1) For all PRC exporters of subject merchandise that have not been found to be entitled to a separate rate, the cash deposit rate will be the rate for the PRC-wide entity, which is 216.01 percent; and (2) for all non-PRC exporters of subject merchandise which have not received their own rate, the cash deposit rate will be the rate applicable to the PRC exporter that supplied that non-PRC exporter.

These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: December 2, 2015.
Christian Marsh,
Deputy Assistant Secretary for Antidumping and Countervailing Duty Operations.

Appendix I

List of Topics Discussed in the Preliminary Decision Memorandum

(1) Summary

(2) Background

(3) Scope of the Order

(4) Respondent Selection

(5) DISCUSSION OF THE METHODOLOGY

a. Preliminary Determination of No Shipments

b. Duty Absorption

c. NME Country Status

d. Separate Rates

(6) Conclusion

[FR Doc. 2015-31426 Filed 12-11-15; 8:45 am]

BILLING CODE 3510-DS-P